DEPARTMENT OF HEALTH AND HUMAN SERVICES

Administration for Children and Families

Announcement of a Single Source Grant Award to the Tribal Law and Policy Institute

AGENCY: Children's Bureau, Administration on Children, Youth and Families, HHS.

ACTION: Notice to award a single source program expansion supplement grant to the Tribal Law and Policy Institute, located in West Hollywood, CA, to support activities of the National Resource Center for Tribes under the Tribal Maternal, Infant, Early Childhood Home Visiting Program.

CFDA Number: 93.508.

Statutory Authority: Social Security Act, Title V, Section 511 (42 U.S.C. 701), as amended by the Patient Protection and Affordable Care Act of 2010 (ACA), Pub. L. 111-148.

SUMMARY: The Administration for Children and Families (ACF), Administration on Children, Youth and Families (ACYF), Children's Bureau (CB) announces the award of a single source program expansion supplement grant to the Tribal Law and Policy Institute, West Hollywood, CA, for the National Resource Center (NRC) for Tribes. The program expansion supplement funds will be used to provide technical assistance and support for the planning, development and implementation of the Tribal Maternal, Infant and Early Childhood Home Visiting program.

The NRC for Tribes will provide technical assistance to ACF Tribal Home Visiting grantees to enhance their capacity to plan for and implement high-quality, evidence-based, and evidence-informed programs. Implementation of the NRC4Tribes work will include engaging, assessing, informing and supporting culturally-appropriate Tribal home visiting services that are part of coordinated early childhood systems in the American Indian and Alaska Natives (AIAN) communities and that support quality and effectiveness of services for AIAN children, youth, and families, which leads to increased safety, permanency, and well-being for children.

The Tribal Law and Policy Institute NRC for Tribes and its partner agencies are uniquely qualified to provide training and technical assistance to Tribes based upon their experience, expertise, and commitment to increasing cultural competency and sensitivity to the Tribal point of view in training and technical assistance. The NRC for Tribes expertise in Tribal culture, child maltreatment prevention, collaboration, evaluation, and implementation of evidence-based programs and practices makes them an appropriate recipient of supplemental funds to carry out this project.

Amount of Award: $150,000.

Project Period: May 15, 2011 to September 30, 2011.

FOR FURTHER INFORMATION CONTACT: Roshanda Shoulders, Children's Bureau, 1250 Maryland Ave., SW., 8th Floor, Washington, DC 20024. Telephone: (202) 401-5323. E-mail: roshanda.shoulders@acf.hhs.gov.

Dated: August 2, 2011.
Bryan Samuels,
Commissioner, Administration on Children, Youth and Families.

[FR Doc. 2011-20278 Filed 8-11-11; 8:45 am]

BILLING CODE 4184-25-P